NUCLEAR REGULATORY COMMISSION

10 CFR Part 72

[NRC-2020-0257]

RIN 3150-AK53

List of Approved Spent Fuel Storage Casks: Holtec International HI-STORM 100 Cask System Certificate of Compliance No. 1014, Amendment No. 15

AGENCY: Nuclear Regulatory Commission.

ACTION: Direct final rule; confirmation of effective date.

SUMMARY: The U.S. Nuclear Regulatory Commission (NRC) is confirming the effective date of June 14, 2021, for the direct final rule that was published in the Federal Register on March 29, 2021. The direct final rule amends the NRC's spent fuel storage regulations by revising the Holtec International HI-STORM 100 Cask System listing within the “List of approved spent fuel storage cask” to include Amendment No. 15 to Certificate of Compliance No. 1014.

DATES: Effective date: The effective date of June 14, 2021, for the direct final rule published March 29, 2021 (86 FR 16291), is confirmed.

ADDRESSES: Please refer to Docket ID NRC-2020-0257 when contacting the NRC about the availability of information for this action. You may obtain publicly-available information related to this action by any of the following methods:

• Federal Rulemaking Website: Go to https://www.regulations.gov and search for Docket ID NRC-2020-0257. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate of compliance, the proposed changes to the technical specifications, and the preliminary safety evaluation report are available in ADAMS under Accession No. ML20295A412. The final amendment to the certificate of compliance, final changes to the technical specifications, and final safety evaluation report can also be viewed in ADAMS under Accession No. ML21118A862.

• Attention: The PDR, where you may examine and order copies of public documents, is currently closed. You may submit your request to the PDR via email at pdr.resource@nrc.gov or call 1-800-397-4209 between 8:00 a.m. and 4:00 p.m. (EST), Monday through Friday, except Federal holidays.

FOR FURTHER INFORMATION CONTACT: Vanessa Cox, Office of Nuclear Material Safety and Safeguards, U.S. Nuclear Regulatory Commission, Washington, DC 20555-0001; telephone: 301-415-8342 or email: Vanessa.Cox@nrc.gov.

SUPPLEMENTARY INFORMATION: On March 29, 2021 (86 FR 16291), the NRC published a direct final rule amending its regulations in part 72 of title 10 of the Code of Federal Regulations to revise the Holtec International HI-STORM 100 Cask System listing within the “List of approved spent fuel storage casks” to include Amendment No. 15 to Certificate of Compliance No. 1014. Amendment No. 15 revises the certificate of compliance as follows:

1. Adds a new version of a transfer cask, HI-TRAC MS (maximum shielded), which includes an option for variable weight of the lead and water jacket and cooling passages to the bottom lid. HI-TRAC MS is to be used with all multipurpose canisters (MPCs) approved for use in Amendment Nos. 0 through 14 to the HI-STORM 100 System and the newly proposed MPC-32M, MPC-32 Version 1, and MPC-68 Version 1.

2. Includes MPC-32M for storage in the HI-STORM 100 System.

3. Includes MPC-32 Version 1 and MPC-68 Version 1 for storage in HI-STORM 100 System.

4. Adds the new overpack, HI-STORM 100S Version E, and allows it to be used with all MPCs approved for use in Amendment Nos. 0 through 14 to the HI-STORM 100 System and the newly proposed MPC-32M, MPC-32 Version 1, and MPC-68 Version 1.

5. Adds three additional boiling water reactor fuel types to the approved content for MPC-68M: 10x10I, 10x10J, and 11x11A.

6. Lowers the allowed ambient temperature from 80 °F to 70 °F for HI-STORM 100S Version E.

7. Adds HI-DRIP and dry ice jacket ancillary system as additional cooling when the MPC is loaded in the HI-TRAC transfer cask.

8. Allows for partial gadolinium credit for boiling water reactor fuel assemblies types 10x10 and 11x11 assembly classes in MPC-68M.

9. Includes allowance for canisters currently loaded under earlier amendments which had different helium leak test requirements.

10. Updates Drawing No. 7195 for the MPC-68M by removing dimensions which are not used in the safety analysis.

11. Includes dry ice jacket as optional alternate cooling method for short-term operation of the loaded HI-TRAC.

In the direct final rule published on March 29, 2021, the NRC stated that if no significant adverse comments were received, the direct final rule would become effective on June 14, 2021. The NRC received and docketed one comment on the companion proposed rule (86 FR 16310; March 29, 2021). An electronic copy of the comment can be obtained from the Federal Rulemaking website https://www.regulations.gov under Docket ID NRC-2020-0257 and is also available in ADAMS under Accession No. ML21090A148.

The NRC evaluated the comment against the criteria described in the direct final rule and determined that the comment was not significant and adverse. Specifically, the comment agreed with this rulemaking and, thus, was not adverse. Therefore, the direct final rule will become effective as scheduled.

Dated: May 21, 2021.
For the Nuclear Regulatory Commission.
Angella M. Love Blair,
Acting Chief, Regulatory Analysis and Rulemaking Support Branch, Division of Rulemaking, Environmental, and Financial Support, Office of Nuclear Material Safety and Safeguards.

[FR Doc. 2021-11192 Filed 5-25-21; 8:45 am]

BILLING CODE 7590-01-P